DEPARTMENT OF COMMERCE

International Trade Administration

[A-821-820]

Ferrosilicon From the Russian Federation: Postponement of Final Antidumping Determination

AGENCY: Enforcement and Compliance, formerly Import Administration, International Trade Administration, Department of Commerce.

DATES: Effective Date: March 24, 2014.

FOR FURTHER INFORMATION CONTACT: Irene Gorelik at (202) 482-6905, AD/CVD Operations, Office V, Enforcement and Compliance, International Trade Administration, U.S. Department of Commerce, 14th Street and Constitution Avenue NW., Washington, DC 20230.

SUPPLEMENTARY INFORMATION: On March 11, 2014, the Department of Commerce (“the Department”) published its preliminary determination in the antidumping duty investigation on ferrosilicon from the Russian Federation.¹ The Preliminary Determination stated that the Department would issue its final determination not later than 75 days after the date of publication of the Preliminary Determination in the Federal Register, in accordance with section 735(a)(1) of the Tariff Act of 1930, as amended (“the Act”). The final determination is currently due not later than May 25, 2014.²

¹ See Ferrosilicon from the Russian Federation: Preliminary Determination of Sales at Not Less Than Fair Value, 79 FR 13620 (March 11, 2014) (“Preliminary Determination”).

² The deadline for the postponement of this investigation was March 17, 2014. Due to the closure of the Federal Government in Washington, DC on March 17, 2014, the Department reached this determination on the next business day (i.e., March 18, 2014). See Notice of Clarification: Application of “Next Business Day” Rule for Administrative Determination Deadlines Pursuant to the Tariff Act of 1930, As Amended, 70 FR 24533 (May 10, 2005).

On March 7, 2014, CC Metals and Alloys, LLC and Globe Specialty Metals, Inc. (together, “Petitioners”), requested postponement of the final determination pursuant to section 735(a)(2)(B) of the Act and 19 CFR 351.210(b)(2)(i).³ Because the Department's preliminary determination in this investigation was negative and no compelling reason exists to deny the request, in accordance with section 735(a)(2)(B) of the Act, 19 CFR 351.210(b)(2)(i), and 19 CFR 351.210(e), the Department is granting the request and postponing the final determination until not later than 135 days after the publication of the Preliminary Determination in the Federal Register. The 60 day extension from the current deadline of May 25, 2014, results in a new deadline of July 24, 2014, for the final determination in this investigation.

³ See Letter from Petitioners, Re: Request for Postponement of the Final Determination, dated March 7, 2014.

This notice is issued and published pursuant to section 735(a)(2)(B) of the Act and 19 CFR 351.210(g).

Dated: March 18, 2014.
Paul Piquado,
Assistant Secretary for Enforcement and Compliance.

[FR Doc. 2014-06432 Filed 3-21-14; 8:45 am]

BILLING CODE 3510-DS-P